DEPARTMENT OF THE TREASURY

Internal Revenue Service

Advisory Committee to the Internal Revenue Service; Meeting

AGENCY: Internal Revenue Service (IRS), Treasury.

ACTION: Notice.

SUMMARY: The Information Reporting Program Advisory Committee (IRPAC) will hold a public meeting on Wednesday, October 24, 2007.

FOR FURTHER INFORMATION CONTACT: Ms. Caryl Grant, National Public Liaison, CL:NPL:SRM, Rm. 7559, 1111 Constitution Avenue, NW., Washington, DC 20224. Telephone: 202-927-3641 (not a toll-free number). E-mail address: *public_liaison@irs.gov.

SUPPLEMENTARY INFORMATION: Notice is hereby given pursuant to section 10(a)(2) of the Federal Advisory Committee Act, 5 U.S.C. App. (1988), a public meeting of the IRPAC will be held on Wednesday, October 24, 2007 from 9 a.m. to 12:15 p.m. in Room 3313, 1111 Constitution Ave, NW., Washington, DC 20224. Issues to be discussed include: Data security concerns; Clean Renewable Energy Bonds and Gulf Tax Credit Bonds; taxation and reporting of excess inclusion income; reporting mortgage insurance premiums on Form 1098 in 2007; Form 1042-S Instructions—Reporting of Return of Capital; Form W-8 (BEN, ECI, IMY, EXP) and corresponding instructions for country abbreviations; Form W-8BEN Instructions—Reverse Hybrid Entities as Beneficial Owners; Form 1042 Instructions—Reporting Subsequently Determined Underreporting; Reporting of Undistributed Earnings to a Foreign Partner on Form 1042; substitute Form W-8 statement above signature line; TIN Masking; Legislative proposals; creation/modification of Schedule R (Form 941), Allocation Schedule for Aggregate Form 941 Filers; revised Form 2678, Employer/Payer Appointment of Agent; Barter Exchange backup withholding and “B” notice requirements for name-TIN mismatches; expansion of the definition of Broker under Section 3405; legislation that impacts the Form 990-T and the Form 990; the re-designed Form 990, Return of Organization Exempt from Income Tax; filing requirements regarding foreign corporations; reporting issues related to the Pension Protection Act (PPA); reporting issues not related to the pension protection Act (PPA); Form 5500; Form 944 regulations and impact; Form W-9; Form 1099A/Form 1099C.

Last minute agenda changes may preclude advance notice. Due to limited seating and security requirements, please call or email Caryl Grant to confirm your attendance. Ms. Grant can be reached at 202-927-3641 or *public _liaison@irs.gov. Attendees are encouraged to arrive at least 30 minutes before the meeting begins to allow sufficient time for purposes of security clearance. Should you wish the IRPAC to consider a written statement, please call 202-927-3641, or write to: Internal Revenue Service, Office of National Public Liaison, CL:NPL:SRM, CP6 4-39, 1111 Constitution Avenue, NW., Washington, DC 20224 or e-mail: *public_liaison@irs.gov.

Dated: September 26, 2007.
Cynthia Vanderpool,
Branch Chief, National Public Liaison.

[FR Doc. E7-19569 Filed 10-2-07; 8:45 am]

BILLING CODE 4830-01-P